DEPARTMENT OF THE INTERIOR

National Park Service

[NPS-MWR-INDU-38253; PS.SMWLA0016.00.1]

Minor Boundary Revision at Indiana Dunes National Lakeshore; Correction

AGENCY: National Park Service, Interior.

ACTION: Notice; correction.

SUMMARY: The National Park Service published a document in the Federal Register of February 28, 2011, concerning a minor boundary revision at Indiana Dunes National Lakeshore, now known as Indiana Dunes National Park. The document contained an incorrect map date and reference number.

FOR FURTHER INFORMATION CONTACT: Lori Warner, Acting Chief, lori_warner@nps.gov, National Park Service, Interior Regions 3, 4, 5, Land Resources Program Center, 601 Riverfront Drive, Omaha, Nebraska, 68102, telephone (402) 661-1706.

SUPPLEMENTARY INFORMATION:

Correction

In the Federal Register of February 28, 2011, in FR Doc. 2011-4352, on page 10915, in the second column, in the SUMMARY section, the map date, “October 2009” and reference number, “314/80,013” are corrected to read: “February 2010” and “626/101,023.”

Herbert Frost,
Regional Director, Interior Regions 3, 4, 5.

[FR Doc. 2024-30206 Filed 12-18-24; 8:45 am]

BILLING CODE 4312-52-P